DEPARTMENT OF ENERGY

Federal Energy Regulatory Commission

[Transcontinental Gas Pipe Line Corporation; Docket No. RP99-291-000 and RP99-291-001]

Notice of Technical Conference

January 18, 2000.

Take notice that in the above proceeding concerning Transcontinental Gas Pipe Line Corporation's new Part 284 liquefied natural gas (LNG) storage services, a technical conference will be held on Tuesday, February 15, 2000 at 10:00 am, in a room to be designated at the offices of the Federal Energy Regulatory Commission, 888 First Street, NE, Washington, D.C. 20426.

All interested parties and Staff are permitted to attend.

David P. Boergers,
Secretary.

[FR Doc. 00-1582 Filed 1-21-00; 8:45 am]

BILLING CODE 6717-01-M